DEPARTMENT OF ENERGY

Federal Energy Regulatory Commission

[Docket Nos. CP15-554-000; CP15-554-001; CP15-555-000]

Atlantic Coast Pipeline, LLC; Dominion Energy Transmission, Inc.; Notice of Request for Extension of Time

Take notice that on June 16, 2020, Atlantic Coast Pipeline, LLC (Atlantic) and Dominion Energy Transmission, Inc.(DETI) (collectively, applicants) requested that the Federal Energy Regulatory Commission (Commission) grant an extension of time, until October 13, 2022, to construct and place into service the facilities that comprise Atlantic's Atlantic Coast Pipeline and DETI's Supply Header Project as described in the original certificate authorization issued on October 13, 2017 (Certificate Order). The Certificate Order required Atlantic and DETI to construct and place the facilities in service by October 13, 2020.

Applicants assert that due to unforeseen delays in permitting, additional time is needed to complete construction of the authorized facilities. Applicants state that they have encountered delays resulting from decisions of the United States Court of Appeals for the Fourth Circuit related to U.S. Forest Service Record of Decision and Special Use Permit, including the crossing of the Appalachian National Scenic Trail, its U.S. Fish and Wildlife Service Biological Opinion and Incidental Take Statement, and the air permit for the compressor station in Buckingham, Virginia. Applicants state they have been working diligently and in good faith to re-obtain all approvals required for the construction of Atlantic Coast Pipeline and Supply Header Project as soon as possible. Applicants project that the necessary approvals for the Atlantic Coast Pipeline and Supply Header Project are anticipated by year-end. Accordingly, applicants request an extension of time until October 13, 2022 to complete construction of the Atlantic Coast Pipeline and Supply Header Project facilities.

This notice establishes a 15-calendar day intervention and comment period deadline. Any person wishing to comment on Atlantic's and DETI's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).¹

¹ Only motions to intervene from entities that were party to the underlying proceeding will be accepted. Algonquin Gas Transmission, LLC, 170 FERC 61,144, at P 39 (2020).

As a matter of practice, the Commission itself generally acts on requests for extensions of time to complete construction for Natural Gas Act facilities when such requests are contested before order issuance. For those extension requests that are contested,² the Commission will aim to issue an order acting on the request within 45 days.³ The Commission will address all arguments relating to whether the applicant has demonstrated there is good cause to grant the extension.⁴ The Commission will not consider arguments that re-litigate the issuance of the certificate order, including whether the Commission properly found the project to be in the public convenience and necessity and whether the Commission's environmental analysis for the certificate complied with the National Environmental Policy Act.⁵ At the time a pipeline requests an extension of time, orders on certificates of public convenience and necessity are final and the Commission will not re-litigate their issuance.⁶ The OEP Director, or his or her designee, will act on all of those extension requests that are uncontested.

² Contested proceedings are those where an intervenor disputes any material issue of the filing. 18 CFR 385.2201(c)(1) (2019).

³ Algonquin Gas Transmission, LLC, 170 FERC 61,144, at P 40 (2020).

⁴ Id. at P 40.

⁵ Similarly, the Commission will not re-litigate the issuance of an NGA section 3 authorization, including whether a proposed project is not inconsistent with the public interest and whether the Commission's environmental analysis for the permit order complied with NEPA.

⁶ Algonquin Gas Transmission, LLC, 170 FERC 61,144, at P 40 (2020).

In addition to publishing the full text of this document in the Federal Register, The Commission provides all interested persons an opportunity to view and/or print the contents of this document via the internet through the Commission's Home Page (http://www.ferc.gov) using the eLibrary link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the eFiling link at http://www.ferc.gov. Persons unable to file electronically should submit an original and three copies of the protest or intervention to the Federal Energy Regulatory Commission, 888 First Street NE, Washington, DC 20426.

Comment Date: 5:00 p.m. Eastern Time on July 2, 2020.

Dated: June 17, 2020.
Kimberly D. Bose,
Secretary.

[FR Doc. 2020-13559 Filed 6-23-20; 8:45 am]

BILLING CODE 6717-01-P